DEPARTMENT OF COMMERCE

National Oceanic and Atmospheric Administration

50 CFR Part 660

[I.D. 092402E]

RIN 0648-AP87

Fisheries Off West Coast States and in the Western Pacific; Coastal Pelagic Species Fishery; Amendment 10

AGENCY: National Marine Fisheries Service (NMFS), National Oceanic and Atmospheric Administration (NOAA), Commerce.

ACTION: Notice of availability of an amendment to a fishery management plan; request for comments.

SUMMARY: NMFS announces that the Pacific Fishery Management Council (Council) has submitted Amendment 10 to the Coastal Pelagic Species Fishery Management Plan (FMP) for Secretarial review. Amendment 10 addresses the two unrelated subjects of the transferability of limited entry permits and maximum sustainable yield (MSY) for market squid. Only the subject of permit transfer requires regulatory action. The purpose is to establish the procedures by which limited entry permits can be transferred to other vessels and/or individuals so that the holders of the permits have maximum flexibility in their fishing operations while the goals of the FMP are achieved.

DATES: Comments on Amendment 10 must be received on or before December 2, 2002.

ADDRESSES: Comments on Amendment 10 should be sent to Rodney R. McInnis, Acting Administrator, Southwest Region, NMFS, 501 West Ocean Boulevard, Suite 4200, Long Beach, CA 90802.

Copies of Amendment 10, which includes an environmental assessment/regulatory impact review, and determination of the impact on small businesses are available from Donald O. McIssac, Executive Director, Pacific Fishery Management Council, 2130 SW Fifth Avenue, Suite 224, Portland, OR, 97201.

FOR FURTHER INFORMATION CONTACT: James Morgan, Sustainable Fisheries Division, NMFS, at 562-980-4036 or Daniel Waldeck, Pacific Fishery Management Council, at 503-326-6352.

SUPPLEMENTARY INFORMATION: The Magnuson-Stevens Fishery Conservation and Management Act (Magnuson-Stevens Act) requires each Regional Fishery Management Council to submit a fishery management plan or plan amendment to NMFS for review and approval, disapproval, or partial approval. The Magnuson-Stevens Act also requires that NMFS, upon receiving a fishery management plan or plan amendment, immediately publish notification in the Federal Register that the fishery management plan or plan amendment is available for public review and comment. NMFS will consider the public comments received during the comment period described above in determining whether to approve, disapprove, or partially approve the fishery management plan or plan amendment.

Amendment 10 would establish an optimum level of harvesting capacity for the limited entry fleet, provide for the transfer of limited entry permits according to specific criteria so that the harvesting capacity goal is not exceeded, and establish a process for the possible consideration of new limited entry permits under certain conditions in the future. The purpose of these measures is to ensure that fishing capacity in the limited entry fishery is in balance with resource availability while giving the fishing industry flexibility in its business ventures.

Amendment 10 to the FMP improves upon Amendment 8 to the FMP. Amendment 10 provides a proxy for MSY for market squid, whereas Amendment 8 did not provide an MSY for market squid. The proxy for MSY for market squid is based on a method of determining egg escapement of the species. NMFS recommended using this approach to monitor the fishery, after NMFS examined the historical landings and the range of the species and determined that these data did not provide the desired information to monitor the harvest of market squid.

Public comments on Amendment 10 must be received by December 2, 2002, to be considered by NMFS when NMFS decides whether to approve, disapprove, or partially approve Amendment 10. A proposed rule to implement Amendment 10 has been submitted for Secretarial review and approval. NMFS expects to publish and request public comment on the proposed regulation to implement Amendment 10 in the near future.

Authority: 16 U.S.C. 1801 et. seq.

Dated: September 27, 2002.
Virginia M. Fay,
Acting Director, Office of Sustainable Fisheries, National Marine Fisheries Service.

[FR Doc. 02-25171 Filed 10-2-02; 8:45 am]

BILLING CODE 3510-22-S